DEPARTMENT OF JUSTICE

Bureau of Alcohol, Tobacco, Firearms, and Explosives

27 CFR Part 478

[Docket No. ATF 2022R-09; AG Order No. 5921-2024]

RIN 1140-AA57

Bipartisan Safer Communities Act Conforming Regulations; Correction

AGENCY: Bureau of Alcohol, Tobacco, Firearms, and Explosives, Department of Justice.

ACTION: Direct final rule; correction.

SUMMARY: The Department of Justice is correcting a direct final rule titled “Bipartisan Safer Communities Act Conforming Regulations” that appeared in the Federal Register on April 19, 2024. That document amended Bureau of Alcohol, Tobacco, Firearms, and Explosives (“ATF”) regulations to conform ATF regulatory text to the new firearms-related definitions and requirements established by the Bipartisan Safer Communities Act and the NICS Denial Notification Act. This document makes some minor technical corrections to the direct final rule, which otherwise remains the same as previously published.

DATES: These corrections are effective on July 18, 2024.

FOR FURTHER INFORMATION CONTACT: Helen Koppe, by email at ORA@atf.gov, by mail at Office of Regulatory Affairs, Enforcement Programs and Services; Bureau of Alcohol, Tobacco, Firearms, and Explosives; U.S. Department of Justice; 99 New York Ave. NE, Washington, DC 20226; or by telephone at (202) 648-7070 (this is not a toll-free number).

SUPPLEMENTARY INFORMATION: On April 19, 2024, the Department of Justice published a direct final rule in the Federal Register at 89 FR 28622 that conformed ATF's regulatory language to firearms-related definitions and requirements established by the Bipartisan Safer Communities Act (Pub. L. 117-159) (BSCA) and the NICS Denial Notification Act (Pub. L. 117-103). During the 30-day comment period, the Department did not receive a significant adverse comment, as defined in section IV.A of the preamble of the direct final rule.¹ See 89 FR 28629. Accordingly, the direct final rule as published on April 19, 2024, will go into effect on July 18, 2024, with the only changes being the corrections made in this document.

¹ The comments and recommendations ATF received were on issues outside the scope of this rulemaking (such as comments on the statutory language) and on topics not presented in the direct final rule (such as comments on being engaged in the business as a dealer). The comments did not identify a divergence between the statutory language and corresponding regulatory language included in the rule, although one comment did also suggest including the minor June 25, 2022, date provision that ATF is correcting in this document. These comments do not meet the definition of a significant adverse comment in Section IV.A of the preamble. See Thompson v. Clark, 741 F.2d 401, 408 (D.C. Cir. 1984) (“[The Administrative Procedure Act] has never been interpreted to require the agency to respond to every comment, or to analyze every issue or alternative raised by the comments, no matter how insubstantial.”).

Need for Correction

The direct final rule published on April 19, 2024, in the Federal Register at 89 FR 28622, inadvertently contained some minor technical errors in the regulatory instructions and text that this document corrects. This document corrects errors in amendatory instruction 2 for § 478.11. That instruction incorrectly redesignated paragraph (c) under the definition of “Misdemeanor crime of domestic violence” as paragraph (iii) but should have redesignated it as paragraph (3), and incorrectly designated a new paragraph as (iv) that should have been designated as paragraph (4), as well as incorrectly designating its lower-level paragraphs in the regulatory text. This document corrects those designation errors in the instructions, and also corrects three cross-references within paragraphs (4)(i) and (iii) to reflect these new designations. The regulation also inadvertently left out the phrase in section 12005(b) of the BSCA (18 U.S.C. 921 note) stating that the new provisions in paragraph (4) do not apply to any conviction of a misdemeanor crime of domestic violence entered before the date of enactment of the BSCA. This document corrects that error by adding the missing phrase “if the conviction was entered before June 25, 2022” to paragraph (4)(i). This document corrects instructions and the correlating regulatory text ahead of the July 18, 2024, effective date of the April 19, 2024 rule.

Corrections

Accordingly, in the direct final rule FR Doc. No. 2024-08339, appearing on page 28622 in the Federal Register of Friday, April 19, 2024, the following corrections are made:

1. On page 28630, in the third column, amendatory instructions b.iv and v, and the respective regulatory text for instruction 2.b.v are corrected to read as follows:

2. Amend § 478.11 as follows:

* * * * *

b. * * *

iv. Redesignate paragraph (c) as paragraph (3); and

v. Add paragraph (4).

* * * * *

§ 478.11 [Corrected]

* * * * *

Misdemeanor crime of domestic violence.

* * * * *

(4)(i) Subject to paragraphs (4)(ii) and (iii) of this definition, a person shall not be considered to have been convicted of a misdemeanor crime of domestic violence against an individual in a dating relationship if the conviction was entered before June 25, 2022, has been expunged or set aside, or is an offense for which the person has been pardoned or has had firearm rights restored, unless the expungement, pardon, or restoration of rights expressly provides that the person may not ship, transport, possess, or receive firearms.

(ii) In the case of a person who has not more than one conviction of a misdemeanor crime of domestic violence against an individual in a dating relationship, and is not otherwise prohibited under 18 U.S.C. chapter 44, the person shall not be disqualified from shipping, transport, possession, receipt, or purchase of a firearm under 18 U.S.C. chapter 44 if:

(A) Five years have elapsed from the later of the judgment of conviction or the completion of the person's custodial or supervisory sentence, if any; and

(B) The person has not subsequently been convicted of another such offense, or any misdemeanor under Federal, State, local, or Tribal law that has, as an element, the use or attempted use of physical force, or the threatened use of a deadly weapon, or any other offense that would disqualify the person under 18 U.S.C. 922(g).

(iii) Restoration under paragraph (4)(ii) of this definition only removes the disqualification from shipping, transport, possession, receipt, or purchase of a firearm under this part. Restoration under paragraph (4)(ii) is not available for a current or former spouse, parent, or guardian of the victim; a person with whom the victim shares a child in common; a person who is cohabiting with or has cohabited with the victim as a spouse, parent, or guardian; or a person similarly situated to a spouse, parent, or guardian of the victim.

* * * * *

Rosemary Hart,
Special Counsel, U.S. Department of Justice.

[FR Doc. 2024-13699 Filed 6-26-24; 8:45 am]

BILLING CODE 4410-FY-P